DEPARTMENT OF ENERGY

Federal Energy Regulatory Commission

[Docket Nos. ER03-323-000, ER03-323-001, ER03-323-002 and ER03-323-003]

Midwest Independent Transmission System Operator, Inc.; Supplemental Notice of Technical Conference

May 30, 2003.

The May 28, 2003 Notice of Technical Conference in this proceeding indicated that a technical conference regarding the Midwest ISO's Market Mitigation Measures will be held on June 26, 2003 at 9 a.m. This conference will be held in the Commission Meeting Room at the offices of the Federal Energy Regulatory Commission, 888 First Street, NE., Washington, DC 20426, unless otherwise notified. All interested persons may attend the conference, and registration is not required. However, attendees are asked to register on-line at http://www.ferc.gov/home/conferences.asp.

The agenda for the technical conference is attached. The topics will commence with a presentation by the Midwest ISO and/or the Midwest ISO Independent Market Monitor, followed by a discussion. After the conference, Commission Staff will set a schedule for Comments and Reply Comments to be filed.

Magalie R. Salas,
Secretary.

Technical Conference Agenda

9-9:15 a.m. Introductions—Commission Staff; and Midwest ISO and/or Midwest ISO Market Monitor.

9:15-12 p.m.—BCA Mitigation, NCA Mitigation and Reference Levels.

• Definition of BCA and application of BCA mitigation;

• NCA designations and mitigation thresholds;

• Reference Levels.

12-1 p.m.—Lunch Break.

1-3:45 p.m.—Interaction between Mitigation Measures and Other Mechanisms.

• Physical Withholding Penalties and Day-Ahead Resource Adequacy Assessment;

• Interaction of the Mitigation Measures with, and status of:

—Resource Adequacy Requirements;

—Safety-net Bid Caps;

—Scarcity Pricing and Demand Response.

3:45-4 p.m. Break.

4-5 p.m. Other Issues and Next Steps.

[FR Doc. 03-14211 Filed 6-4-03; 8:45 am]

BILLING CODE 6717-01-P